INTERNATIONAL TRADE COMMISSION

[Investigation Nos. 731-TA-1092 and 1093 (Final)]

Diamond Sawblades and Parts Thereof From China and Korea

Determination

On the basis of the record ¹ developed in the subject investigations, the United States International Trade Commission (Commission) determines, pursuant to section 735(b) of the Tariff Act of 1930 (19 U.S.C. 1673d(b)) (the Act), that an industry in the United States is not materially injured or threatened with material injury and the establishment of an industry in the United States is not materially retarded, by reason of imports from China and Korea of diamond sawblades and parts thereof, provided for in subheading 8202.39.00 of the Harmonized Tariff Schedule of the United States, that have been found by the Department of Commerce (Commerce) to be sold in the United States at less than fair value (LTFV).2 3

¹ The record is defined in sec. 207.2(f) of the Commission's Rules of Practice and Procedure (19 CFR 207.2(f)).

² Vice Chairman Shara L. Aranoff and Commissioner Jennifer A. Hillman dissenting.

³ When packaged together as a set for retail sale with an item that is separately classified under headings 8202 to 8205 of the HTS, diamond sawblades or parts thereof may be imported under HTS heading 8206.

Background

The Commission instituted these investigations effective May 3, 2005, following receipt of a petition filed with the Commission and Commerce by the Diamond Sawblade Manufacturers' Coalition (“DSMC”) and its individual members: Blackhawk Diamond, Inc., Fullerton, CA; ⁴ Diamond B, Inc., Santa Fe Springs, CA; Diamond Products, Elyria, OH; Dixie Diamond, Lilburn, GA; Hoffman Diamond, Punxsutawney, PA; Hyde Manufacturing, Southbridge, MA; Sanders Saws, Honey Brook, PA; Terra Diamond, Salt Lake City, UT; and Western Saw, Inc., Oxnard, CA. The final phase of the investigations was scheduled by the Commission following notification of a preliminary determination by Commerce that imports of diamond sawblades and parts thereof from China and Korea were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of January 20, 2006 (71 FR 3324). The hearing was held in Washington, DC, on May 16, 2006, and all persons who requested the opportunity were permitted to appear in person or by counsel.

⁴ Blackhawk Diamond ceased operations in January 2006.

The Commission transmitted its determination in these investigations to the Secretary of Commerce on July 5, 2006. The views of the Commission are contained in USITC Publication 3862 (July 2006), entitled Diamond Products and Parts Thereof from China and Korea: Investigation Nos. 731-TA-1092 and 1093 (Final).

By order of the Commission.
Issued: July 5, 2006.
Marilyn R. Abbott,
Secretary to the Commission.

[FR Doc. E6-10839 Filed 7-10-06; 8:45 am]

BILLING CODE 7020-02-P